DEPARTMENT OF AGRICULTURE

Forest Service

Apache-Sitgreaves National Forests; Arizona; Notice of New Fee Site

AGENCY: Forest Service, USDA.

ACTION: Notice and solicitation of comments.

SUMMARY: The Apache-Sitgreaves National Forests proposes to begin charging a fee for the overnight rental of Caldwell Cabin. Rentals of other cabins in the Arizona National Forests have shown that publics appreciate and enjoy the availability of historic rental cabins. Funds from the rental will be used for the continued operation and maintenance of Caldwell Cabin. Caldwell Cabin is located in T4N, R28E Sec. 14.

DATES: Caldwell Cabin is expected to become available for rent July, 2006. Comments, concerns or questions about this new fee must be submitted by June 1, 2006.

ADDRESSES: Submit written comments, concerns, or questions about the new fee associated with the Caldwell Cabin rental to: Forest Supervisor, Apache-Sitgreaves National Forests, P.O. Box 640 Springerville, Arizona 85938.

FOR FURTHER INFORMATION CONTACT: Richard Davalos, District Ranger, (928) 339-4384 or (928) 339-4566 (TTY).

SUPPLEMENTARY INFORMATION: The Federal Recreation Lands Enhancement Act (Title VII, Pub. L. 108-447) directed the Secretary of Agriculture to publish a six month advance notice in the Federal Register whenever new recreation fee areas are established. The intent of this notice is to give publics an opportunity to comment if they have concerns or questions about new fees. This will be the Apache-Sitgreaves National Forest first cabin rental. Other cabin rentals exist in neighboring Arizona National Forests. These rentals are often fully booked throughout their rental season. A market analysis will be conducted to determine the fee, ensuring that it is both reasonable and acceptable for this sort of unique recreation experience.

People wanting to rent Caldwell Cabin will need to do so through the National Recreation Reservation Service, at http://www.reserveusa.com or by calling 1-877-444-6777. The National Recreation Reservation Service charges a fee for reservations.

Responsible Official

Elaine J. Zieroth, Apache-Sitgreaves Forest Supervisor.

Dated: December 15, 2005.
Elaine J. Zieroth,
Apache-Sitgreaves Forest Supervisor.

[FR Doc. 05-24334 Filed 12-21-05; 8:45 am]

BILLING CODE 3410-11-M